NUCLEAR REGULATORY COMMISSION

[NRC-2011-0022]

Notice of Public Meeting and Request for Comments on the Potential Revision of the Branch Technical Position on Concentration Averaging and Encapsulation

AGENCY: Nuclear Regulatory Commission.

ACTION: Notice of Public Meeting and Request for Comments on Issues Related to the Revision of the Branch Technical Position on Concentration Averaging and Encapsulation.

SUMMARY: The U.S. Nuclear Regulatory Commission (NRC) plans to conduct a public meeting on February 24, 2011, in Rockville, Maryland, to solicit input on issues associated with revising the Branch Technical Position (BTP) on Concentration Averaging and Encapsulation (CA BTP). Revising the BTP was ranked as a high priority in NRC's strategic assessment of its low-level radioactive waste regulatory program (SECY-07-0180). Since then, NRC has focused on blending of low-level radioactive waste (LLRW), one of eight major areas in the CA BTP. In SECY-10-0043, the staff provided the Commission with an analysis of issues related to LLRW blending. In the Staff Requirements Memorandum (SRM) for SECY-10-0043, the Commission directed the staff to revise the blending position in the CA BTP to be risk-informed and performance-based. With this decision, the staff is in a position to update the entire CA BTP, not only addressing blending, but also the remainder of the CA BTP topics that address mathematical averaging of radioactivity concentrations. The staff is holding a public meeting to obtain comments from stakeholders on how the CA BTP could be revised to be more aligned with the NRC's position of risk-informed performance-based regulations.

DATES: Members of the public may provide feedback at the transcribed public meeting or may submit written comments on the issues discussed in this notice. Comments on the issues and questions presented in this notice and discussed at the meeting should be postmarked no later than April 15, 2011. Comments received after this date will be considered if it is practical to do so. NRC plans to consider these stakeholder views in the development of a revised draft CA BTP. The staff expects to issue a draft for public comment later this year.

Written comments may be sent to the address listed in the ADDRESSES section. Questions about participation in the public workshops should be directed to the facilitator at the address listed in the ADDRESSES section. Replies should be directed to the points of contact listed in the FOR FURTHER INFORMATION CONTACT section.

The public meeting will be held on February 24, 2011, from 8:00 a.m. to 5:00 p.m. at the Legacy Hotel, 1775 Rockville Pike, Rockville, Maryland 20852.

The agenda for the public meeting will be noticed no fewer than ten (10) days prior to the meeting on the NRC's electronic public workshop schedule at http://www.nrc.gov/public-involve/public-meetings/index.cfm. Please refer to the SUPPLEMENTARY INFORMATION section of this notice for questions that will be discussed at the meeting. The supplemental information below also contains a copy of a preliminary draft of a revised CA BTP. The official CA BTP is available in the Agencywide Documents Access and Management System (ADAMS) under ML033630732. Please refer to this version as NRC's official CA BTP document.

As a first step in revising the CA BTP, the staff has prepared a preliminary draft for review by stakeholders. This draft is meant to serve as a starting point for NRC's efforts to revise the document. This version does not revise the basic positions in the CA BTP to make them more risk-informed. Rather, it clarifies language, defines terms, and is reorganized so that stakeholders can more efficiently review the document (ADAMS ML103430088).

In 2009, the Electric Power Research Institute (EPRI) sent a report to the NRC entitled, “Proposed Modification to the NRC Branch Technical Position on Concentration Averaging and Encapsulation.” The EPRI report provided comments on the CA BTP. The staff has no position at this time on the EPRI report, and will consider it along with all other comments received from stakeholders in developing a revised draft of the CA BTP. The revisions suggested in this report are likely to be discussed in the upcoming workshop.

ADDRESSES: You may submit comments by any one of the following methods. Please include Docket ID NRC-2011-0022 in the subject line of your comments. Comments submitted in writing or in electronic form will be posted on the NRC Web site and on the Federal rulemaking Web site, regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal rulemaking Web site: Go to http://www.regulations.gov and search for documents filed under Docket ID NRC-2011-0022. Address questions about NRC dockets to Carol Gallagher, telephone: 301-492-3668, e-mail: Carol.Gallagher@nrc.gov.

Mail comments to: Cindy Bladey, Chief, Rules, Announcements and Directives Branch (RADB), Division of Administrative Services, Office of Administration, Mail Stop: TWB-05-B01M, U.S. Nuclear Regulatory Commission, Washington, DC 20555-0001, or by fax to RADB at 301-492-3446.

You can access publicly available documents related to this notice using the following methods:

NRC's Public Document Room (PDR): The public may examine and have copied for a fee publicly available documents at the NRC's PDR, Room O1-F21, One White Flint North, 11555 Rockville Pike, Rockville, Maryland 20852-2738.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The EPRI report is available electronically under ADAMS Accession Number ML090230211 and ML090230195.

Federal rulemaking Web site: Public comments and supporting materials related to this notice can be found at http://www.regulations.gov by searching on Docket ID: NRC-2011-0022.

FOR FURTHER INFORMATION CONTACT: Maurice Heath, Office of Federal and State Materials and Environmental Management Programs, U.S. Nuclear Regulatory Commission, Washington, DC 20555-0001; telephone: 301-415-3137; e-mail: Maurice.Heath@nrc.gov.

SUPPLEMENTARY INFORMATION:

I. Background

To provide protection of individuals from inadvertent intrusion into a waste disposal facility (a requirement in 10 CFR 61.42), radioactive waste proposed for near-surface disposal must be classified, based on its hazard to the intruder, to ensure its suitability for such disposal. “Licensing Requirements for Land Disposal of Radioactive Waste,” 10 CFR Part 61, establishes a waste classification system based on the concentration of specific radionuclides contained in the waste. The regulation also states, in 10 CFR 61.55(a)(8), that “The concentration of a radionuclide [in waste] may be averaged over the volume of the waste, or weight of the waste if the units [on the values tabulated in the concentration tables] are expressed as nanocuries per gram”.

The NRC initially developed a technical position on radioactive waste classification in May 1983 (ADAMS ML033630755). That technical position paper described overall procedures acceptable to NRC staff that could be used by licensees to determine the presence and concentrations of the radionuclides listed in 10 CFR 61.55, and thereby classify waste for near-surface disposal.

In 1995 the NRC staff published the CA BTP. The 1995 version expanded and further defined Section C.3 of the 1983 BTP dealing with concentration averaging. In 2007 the NRC staff performed a Strategic Assessment of the NRC Low-Level Waste Regulatory Program. The staff informed the Commission, in SECY-07-0180, that it would update the CA BTP and that it was a high priority task. The staff stated the CA BTP would be revised to use risk-informed approaches.

In 2010 the NRC staff responded to the Commission's request to provide options for the NRC's policy on the blending of low-level waste (SECY-10-0043). LLRW blending is one of eight topic areas in the CA BTP. The Commission, in the SRM for SECY-10-0043, adopted the staff's recommendation to revise the blending position contained in the CA BTP. The Commission agreed with the staff's approach to revise the blending guidance to be risk-informed and performance-based, which supports the agency's regulatory goals. With this direction from the Commission, the staff is initiating revisions to the entire CA BTP to include the Commission's new position on blending, as well as to consider risk-informed, performance-based approaches for the remainder of the CA BTP.

II. Questions Related to Branch Technical Position

This section identifies questions associated with revising the CA BTP. These questions are not meant to be a complete or final list, but are intended to initiate discussion. These questions will help to focus the discussion at the public meeting. All public feedback will be considered in developing a draft for later public review and comment.

1. NUREG-1854, “NRC Staff Guidance for Activities Related to U.S. Department of Energy Waste Determinations—Draft Final Report for Interim Use,” issued August 2007,” contains extensive guidance for site-specific evaluations of intruder protection. The approach in the NUREG was endorsed by NRC's Advisory Committee on Nuclear Waste and Materials, which also recommended that the staff evaluate a broader application of the new concentration averaging methodology to wastes other than “waste incidental to reprocessing.” How could approaches in that guidance be used in revising the CA BTP?

2. Part 61 limits the disposal of Cs-137 to 4,600 Ci/m³, yet the CA BTP guidance for disposal of discrete Cs-137 sources recommends a limit of 30 Ci in 0.2 m³ (150 Ci/m³). Given the large disparity between the CA BTP guidance and Part 61, and given the need to dispose of large Cs-137 sources, should NRC consider revising the 30 Ci in 0.2 m³ recommendation found in the CA BTP?

3. The rulemaking for unique waste streams (see SECY-08-0147 and the SRM-SECY-08-0147) will protect the inadvertent human intruder by requiring a site- and waste-specific assessment. The current CA BTP defines acceptable practices for applying the 61.55 tables, to insure that inadvertent human intruder is protected (as intended in the draft and final Environmental Impact Statement for Part 61). Given the NRC's move towards site- and waste-specific analyses to demonstrate protection of the intruder—is the CA BTP necessary, or could it be eliminated?

4. The volume over which waste concentrations are averaged has a significant effect on waste classification. The current CA BTP addresses averaging over a waste package. Others have suggested that averaging occur over the volume of waste that an inadvertent intruder would be exposed to, or the volume of a disposal trench. What are the pros and cons of these approaches?

5. For blending homogeneous waste types, the NRC will be requiring a site- and waste-specific intruder analysis, so as to be risk-informed and performance-based. In requiring a site- and waste-specific analysis for homogeneous waste types, the NRC is moving away from the CA BTP's “factor of 10 rule” for individual contributors to a mixture of homogeneous waste types. Should NRC also move away from the “factor of 10 rule” for non-primary gamma emitters and away from the “factor of 1.5 rule” for primary gamma emitters?

6. What limits on the types of LLW that can be blended should be specified in the CA BTP? Specifically, should blending of cartridge filters and sealed sources to form homogeneous mixtures be addressed in the CA BTP?

7. In the Commission's October 13, 2010, decision on LLRW blending, it stated that “* * * [Greater than Class C] GTCC waste is a Federal responsibility and * * * should not be made into a State responsibility, even if the waste has been blended into a lower classification.” What unique guidance will GTCC waste require in the BTP, given this direction? For example, when should waste be classified? (Waste is currently not required to be classified until it is shipped for disposal).

8. How should NRC consider heterogeneity in waste concentrations in the site-specific intruder analysis? Does there need to be guidance on how to interpret intruder analysis results with respect to waste heterogeneity?

9. 10 CFR 61.55(a)(8), allows for averaging of waste concentrations in determining the classification of waste. Such averaging should continue to protect an inadvertent intruder in a waste disposal facility, one of the four performance objectives in 10 CFR Part 61.

• How do other programs for managing and disposing of waste treat protection of an inadvertent intruder?

• Do they allow for averaging, and if so, what are the constraints?

• Could or should NRC harmonize its approach with these other programs? If so, would changes need to be made to NRC regulations, or could they be made in guidance?

Dated at Rockville, Maryland this 20th day of January 2011.
For the Nuclear Regulatory Commission.
Gregory F. Suber,
Acting Deputy Director, Environmental Protection and Performance Assessment Directorate, Division of Waste Management and Environmental Protection, Office of Federal and State Materials and Environmental Management Programs.

[FR Doc. 2011-1611 Filed 1-25-11; 8:45 am]

BILLING CODE 7590-01-P